DEPARTMENT OF JUSTICE

Antitrust Division

Notice Pursuant to the National Cooperative Research and Production Act of 1993—Appliance Research Consortium, Inc. (Formerly Known as Appliance Industry-Government CFC Replacement Consortium, Inc.)

Notice is hereby given that, on March 9, 2001, pursuant to section 6(a) of the National Cooperative Research and Production Act of 1993, 15 U.S.C. 4301 et seq. (“the Act”), Appliance Research Consortium, Inc. has filed written notifications simultaneously with the Attorney General and the Federal Trade Commission disclosing changes in its membership and in its nature and objectives. The notifications were filed for the purpose of extending the Act's provisions limiting the recovery of antitrust plaintiffs to actual damages under specified circumstances. Specifically, Huntsman Polyurethanes (a business unit of Huntsman International LLL—f/k/a Huntsman ICI Chemicals, LLC), West Deptford, NJ; OSI Specialties, Greenwich, CT; BSH Home Appliance Corp., Los Angeles, CA; Viking Range Corp., Greenwood, MS; and Broan—Nu Tone LLC, Hartford, WI have been added as parties to this venture. AlliedSignal Inc. has merged with Honeywell, Inc., Morristown, NJ, with Honeywell being the survivor; and Exxon Chemical Company has merged with Mobil Oil Corporation and has changed its name to ExxonMobil Chemical Company, Edison, NJ. Also, Tecumseh Products Company, Tecumseh, MI has been dropped as a party to this venture.

The purpose of the Corporation has been expanded to include research and reporting on safe cooking technologies.

No other changes have been made in either the membership or planned activity of the group research project. Membership in this group research project remains open, and Appliance Research Consortium, Inc. intends to file additional written notification disclosing all changes in membership.

On September 19, 1989, Appliance Research Consortium, Inc. filed its original notification pursuant to section 6(a) of the Act. The Department of Justice published a notice in the Federal Register pursuant to section 6(b) of the Act on November 1, 1989 (54 FR 46136).

The last notification was filed with the Department on June 27, 1997. A notice was published in the Federal Register pursuant to section 6(b) of the Act on August 12, 1997 (62 FR 43184).

Constance K. Robinson,
Director of Operations, Antitrust Division.

[FR Doc. 01-8580 Filed 4-6-01; 8:45 am]

BILLING CODE 4410-11-M